DEPARTMENT OF THE INTERIOR

National Park Service

[NPS-WASO-NAGPRA-20250; PPWOCRADN0-PCU00RP14.R50000]

Notice of Inventory Completion for Native American Human Remains and Associated Funerary Objects in the Possession of the University of Denver Department of Anthropology and Museum of Anthropology, Denver, CO; Correction

AGENCY: National Park Service, Interior.

ACTION: Notice; correction.

SUMMARY: The University of Denver Museum of Anthropology has corrected an inventory of human remains and associated funerary objects, published in a Notice of Inventory Completion in the Federal Register on November 13, 2000. This notice corrects the number of associated funerary objects. Lineal descendants or representatives of any Indian tribe or Native Hawaiian organization not identified in this notice that wish to request transfer of control of these associated funerary objects should submit a written request to the University of Denver Museum of Anthropology. If no additional requestors come forward, transfer of control of the associated funerary objects to the lineal descendants, Indian tribes, or Native Hawaiian organizations stated in this notice may proceed.

DATES: Lineal descendants or representatives of any Indian tribe or Native Hawaiian organization not identified in this notice that wish to request transfer of control of these associated funerary objects should submit a written request with information in support of the request to the University of Denver Museum of Anthropology at the address in this notice by April 7, 2016.

ADDRESSES: Anne Amati, University of Denver Museum of Anthropology, 2000 East Asbury Avenue, Denver, CO 80208, telephone (303) 871-2687, email anne.amati@du.edu.

SUPPLEMENTARY INFORMATION: Notice is here given in accordance with the Native American Graves Protection and Repatriation Act (NAGPRA), 25 U.S.C. 3003, of the correction of an inventory of human remains and associated funerary objects under the control of the University of Denver Museum of Anthropology, Denver, CO. The human remains and associated funerary objects were removed from Pueblo Blanco, Santa Fe County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (65 FR 67757-67758, November 13, 2000). Re-inventory discovered more associated funerary objects. Transfer of control of the items in this correction notice has not occurred.

Correction

In the Federal Register (65 FR 67757-67758, November 13, 2000), paragraph 4, sentence 4 is corrected by substituting the following sentence:

The 21 associated funerary objects are 1 non-human bone, 15 ceramic sherds (black and red on white), 4 chipped stone tools, and 1 projectile point fragment.

In the Federal Register (65 FR 67757-67758, November 13, 2000), paragraph 6, sentence 2 is corrected by substituting the following sentence:

Officials of the University of Denver Department of Anthropology and Museum of Anthropology also have determined that, pursuant to 43 CFR 10.2 (d)(2), the 21 objects listed above are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Anne Amati, University of Denver Museum of Anthropology, 2000 E. Asbury Avenue, Denver, CO 80208, telephone (303) 871-2687, email anne.amati@du.edu, by April 7, 2016. After that date, if no additional requestors have come forward, transfer of control of the and associated funerary objects to the Hopi Tribe of Arizona may proceed.

The University of Denver Museum of Anthropology is responsible for notifying the Hopi Tribe of Arizona and the Colorado River Indian Tribes of the Colorado River Indian Reservation, Arizona and California, that this notice has been published.

Dated: February 3, 2016.
Melanie O'Brien,
Manager, National NAGPRA Program.

[FR Doc. 2016-05061 Filed 3-7-16; 8:45 am]

BILLING CODE 4312-50-P